FEDERAL COMMUNICATIONS COMMISSION

47 CFR Part 10

[PS Docket Nos. 15-91, 15-94; DA 18-302]

Parties Asked To Refresh the Record on Facilitating Multimedia Content in Wireless Emergency Alerts

AGENCY: Federal Communications Commission.

ACTION: Proposed rule.

SUMMARY: In this document, the Public Safety and Homeland Security Bureau (Bureau) seeks to refresh the record on the issue of facilitating multimedia content (such as photos and maps) in Wireless Emergency Alert (WEA) messages raised in the 2016 Report and Order and Further Notice of Proposed Rulemaking in this proceeding.

DATES: Comments are due on or before May 29, 2018 and reply comments are due on or before June 11, 2018.

ADDRESSES: You may submit comments, identified by PS Docket Nos. 15-91 and 15-94, by any of the following methods:

• Federal eRulemaking Portal: https://www.regulations.gov. Follow the instructions for submitting comments.

• Federal Communications Commission's Website: https://www.fcc.gov/ecfs/. Follow the instructions for submitting comments.

• Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

• People With Disabilities: Contact the FCC to request reasonable accommodations (accessible format documents, sign language interpreters, CART, etc.) by Email: FCC504@fcc.gov or phone: (202) 418-0530 or TTY: (202) 418-0432.

For detailed instructions for submitting comments and additional information on the rulemaking process, see the SUPPLEMENTARY INFORMATION section of this document.

FOR FURTHER INFORMATION CONTACT: John A. Evanoff, Attorney-Advisor, Policy and Licensing Division, Public Safety and Homeland Security Bureau, (202) 418-0848 or john.evanoff@fcc.gov.

SUPPLEMENTARY INFORMATION: This is a summary of the Commission's document in PS Docket Nos. 15-91, 15-94; DA 18-302, released on March 28, 2018. It is available on the Commission's website at https://www.fcc.gov.

Synopsis

1. By this document, DA 18-302, the Public Safety and Homeland Security Bureau (Bureau) of the Federal Communications Commission (Commission) invites interested parties to update the record on the feasibility of including multimedia content in Wireless Emergency Alert (WEA) messages.

2. Currently, the Commission's rules do not specify technical requirements for enabling multimedia content in WEA alert messages. In the 2016 WEA Report and Order and Further Notice of Proposed Rulemaking (WEA R&O and FNPRM), 81 FR 78539, Nov. 8, 2016, the Commission recognized that additional standards development remains necessary. Accordingly, the Commission sought comment regarding the establishment of an appropriate regulatory framework and timeframe for incorporating multimedia capability into WEA alert messages. Numerous stakeholders responded to that request.

3. Since the release of the WEA R&O and FNPRM, the Commission has taken measures to strengthen WEA as a tool for emergency managers to communicate with the public. For example, the Commission revised its rules to ensure that emergency managers can geographically target alerts to only those phones located in areas affected by an emergency. When the WEA program launched in 2012, Participating Commercial Mobile Service (CMS) Providers were generally required to send alerts to a geographic area no larger than the county or counties affected by the emergency situation. As of November 1, 2017, all Participating CMS Providers must transmit alerts to a geographic area that “best approximates” the area affected by the emergency situation, and by November 30, 2019, all Participating CMS Providers must match the target area of the alert. In addition to improving the accuracy with which WEA messages must be geo-targeted, the Commission has taken action to improve emergency managers' ability to deliver more effective content in WEA messages. For example, as of November 1, 2017, nationwide Participating CMS Providers must support the inclusion of embedded references (i.e., URLs and phone numbers) in WEA messages. By May 1, 2019, Participating CMS Providers also must support longer WEA alerts (with the maximum Alert Message length increasing from 90 to 360 characters for 4G LTE and future networks) and the transmission of Spanish-language alert messages. Also as of May 1, 2019, authorized State and local alert initiators will be able to conduct “end-to-end” WEA tests that can be received by members of their communities, in order to assess how WEA is working within their jurisdictions.

4. In response to The Commission continues to consider the WEA FNPRM's proposal regarding multimedia alerting, and the Bureau requests that interested commenters refresh the record with any new information or arguments. Commenters should address the technical feasibility for requiring multimedia content in WEA messages, including the current state of multimedia testing and standards development. Commenters should also address with particularity the potential costs and benefits to public safety and Participating CMS Providers for supporting the inclusion of multimedia content in WEA messages, given the other changes to WEA that are currently ongoing.

Procedural Matters

A. Accessible Formats

5. To request materials in accessible formats for people with disabilities (braille, large print, electronic files, audio format), send an email to fcc504@fcc.gov or call the Consumer & Governmental Affairs Bureau at 202-418-0530 (voice), 202-418-0432 (tty). Contact the FCC to request reasonable accommodations for filing comments (accessible format documents, sign language interpreters, CARTS, etc.) by email: FCC504@fcc.gov; phone: (202) 418-0530 (voice), (202) 418-0432 (TTY).

B. Filing Requirements

6. Ex Parte Rules. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

7. Comment and Reply Comment. Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the internet by accessing the ECFS: http://apps.fcc.gov/ecfs/.

• Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Drive, Annapolis Junction, MD 20701.

• U.S. Postal Service first-class, Express, and Priority mail must be addressed to 445 12th Street SW, Washington DC 20554.

People With Disabilities: To request materials in accessible formats for people with disabilities (braille, large print, electronic files, audio format), send an email to fcc504@fcc.gov or call the Consumer & Governmental Affairs Bureau at 202-418-0530 (voice), 202-418-0432 (tty).

C. Initial Paperwork Reduction Act of 1995 Analysis

8. This document does not contain proposed information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4).

Federal Communications Commission.
Lisa Fowlkes,
Chief, Public Safety and Homeland Security Bureau.

[FR Doc. 2018-08772 Filed 4-25-18; 8:45 am]

BILLING CODE 6712-01-P